DEPARTMENT OF THE INTERIOR

Office of Surface Mining Reclamation and Enforcement

30 CFR Parts 700, 701, 773, 774, 777, 779, 780, 783, 784, 785, 800, 816, 817, 824, and 827

[Docket ID: OSM-2010-0021; S1D1S SS08011000 SX064A000 178S180110; S2D2S SS08011000 SX064A000 17XS501520]

Stream Protection Rule; Final Environmental Impact Statement

AGENCY: Office of Surface Mining Reclamation and Enforcement, Department of the Interior.

ACTION: Notice of availability; final environmental impact statement.

SUMMARY: We, the Office of Surface Mining Reclamation and Enforcement (OSMRE), announce the availability of the Final Environmental Impact Statement (FEIS) for the Stream Protection Rule developed pursuant to the National Environmental Policy Act (NEPA).

DATES: The final EIS is available on November 16, 2016.

ADDRESSES: Copies of the FEIS are available for public inspection at the following OSMRE locations:

• Administrative Record, Room 101 SIB, 1951 Constitution Avenue NW., Washington, DC 20240, (Phone: 202-208-2823).

• Appalachian Regional Office, Three Parkway Center, Pittsburgh, Pennsylvania 15220 (Phone: (412) 937-2815).

• Mid-Continent Regional Office, William L. Beatty Federal Building, 501 Belle Street, Room 216, Alton, Illinois 62002 (Phone: (618) 463-6460).

• Western Regional Office, 1999 Broadway, Suite 3320, Denver, Colorado 80201 (Phone: (303) 293-5000).

• Charleston Field Office, 1027 Virginia Street East, Charleston, West Virginia 25301 (Phone: (304) 347-7158).

• Knoxville Field Office, 710 Locust Street, 2nd floor, Knoxville, Tennessee 37902 (Phone: (865) 545-4103).

• Lexington Field Office, 2675 Regency Road, Lexington, Kentucky 40503 (Phone: (859) 260-3902).

• Beckley Area Office, 313 Harper Park Drive, Beckley, West Virginia 25801 (Phone: (304) 255-5265).

• Harrisburg Area Office, 215 Limekiln Road, New Cumberland, Pennsylvania 17070 (Phone: (717) 730-6985).

• Albuquerque Area Office, 100 Sun Avenue NE., Pan American Building, Suite 330, Albuquerque, New Mexico 87109 (Phone: (505) 761-8989).

• Casper Area Office, Dick Cheney Federal Building, 150 East B Street, Casper, Wyoming 82601 (Phone: (307) 261-6550).

• Birmingham Field Office, 135 Gemini Circle, Suite 215, Homewood, Alabama 35209 (Phone: (205) 290-7282).

• Tulsa Field Office, 1645 South 101st East Avenue, Suite 145, Tulsa, Oklahoma 74128 (Phone: (918) 581-6430).

Electronic copies of the FEIS are available at:

• Federal eRulemaking Portal: http://www.regulations.gov. The Docket ID for the FEIS is OSM-2010-0021.

• OSMRE Web site: www.osmre.gov.

In addition, a limited number of CD copies of the FEIS are available upon request. You may obtain a CD by contacting the person identified in FOR FURTHER INFORMATION CONTACT.

FOR FURTHER INFORMATION CONTACT: Robin Ferguson, Office of Surface Mining Reclamation and Enforcement, U.S. Department of the Interior, 1951 Constitution Avenue NW., Washington, DC 20240. Telephone: 202-208-2802. Email: rferguson@osmre.gov.

SUPPLEMENTARY INFORMATION:

Background

Significant advances in scientific knowledge and mining and reclamation techniques have occurred in the more than 30 years that have elapsed since the enactment of the Surface Mining Control and Reclamation Act of 1977, 30 U.S.C. 1201 et seq., and the adoption of Federal regulations implementing that law. On July 27, 2015, OSMRE proposed the Stream Protection Rule for the primary purpose of updating its regulations and providing regulatory certainty to industry using these advances in scientific knowledge to minimize the adverse impacts of surface coal mining and underground mining operations on surface water, groundwater, fish, wildlife, and related environmental values, with particular emphasis on protecting or restoring streams and aquatic ecosystems. (See 80 FR 44436.)

The draft environmental impact statement (DEIS) for the proposed rule was made available for public review and comment on July 17, 2015. (See 80 FR 42535.) After an extension was granted, the comment period closed on October 26, 2015. (See 80 FR 54590.) During the comment period, OSMRE held six public hearings in Colorado, Kentucky, Missouri, Pennsylvania, Virginia, and West Virginia, and received approximately 95,000 comments on the proposed rule, DEIS, and the draft Regulatory Impact Analysis.

The FEIS for the Stream Protection Rule analyzes the environmental, socioeconomic, and other effects of the preferred alternative—Alternative 8, as revised—and a reasonable range of other alternatives, including a No Action Alternative. The FEIS, including Alternative 8, has been revised, as appropriate, in response to comments and other information received on the DEIS, proposed rule, and draft Regulatory Impact Analysis. It also includes the input of cooperating agencies.

Authority: 40 CFR 1506.6, 40 CFR 1506.1

Dated: November 11, 2016.
Sterling Rideout,
Assistant Director, Program Support.

[FR Doc. 2016-27655 Filed 11-15-16; 8:45 am]

BILLING CODE 4310-05-P